DEPARTMENT OF HEALTH AND HUMAN SERVICES

Administration for Community Living

Agency Information Collection Activities; Proposed Collection; Comment Request; Alzheimer's and Dementia Program Data Reporting Tool (ADP-DRT) OMB #0985-0022

AGENCY: Administration for Community Living, Health and Human Services (HHS).

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on the Proposed Revision and solicits comments on the information collection requirements related to Alzheimer's and Dementia Program Data Reporting Tool (ADP-DRT).

DATES: Comments on the collection of information must be submitted electronically by 11:59 p.m. (EST) or postmarked by September 14, 2020.

ADDRESSES: Submit electronic comments on the collection of information to: Erin Long (Erin.Long@acl.gov). Submit written comments on the collection of information to Administration for Community Living, Washington, DC 20201, Attention: Erin Long.

FOR FURTHER INFORMATION CONTACT: Erin Long, Administration for Community Living, Washington, DC 20201, Erin.Long@acl.gov, 202-795-7389.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates; (3) ways to enhance the quality, utility, and clarity of the information to be collected; and

(4) ways to minimize the burden of the collection of information on respondents, including through the use of automated collection techniques when appropriate, and other forms of information technology.

The Older American's Act requires ACL to evaluate “demonstration projects that support the objectives of this Act, including activities to bring effective demonstration projects to scale with a prioritization of projects that address the needs of underserved populations, and promote partnerships among aging services, community-based organizations, and Medicare and Medicaid providers, plans, and health (including public health) systems. (Section 201 (42 U.S.C. 3011) Sec. 127. Research and Evaluation).

To fulfill the evaluation requirements and allow for optimal federal and state-level management of ACL's Alzheimer's Disease Program, specific information must be collected from grantees.

The current reporting tool is set to expire June 22, 2020. The Alzheimer's and Dementia Program (ADP) Project Officer has reviewed the current data collection procedures to ensure the acceptability of these items as appropriate and thorough evaluation of the program, while minimizing burden for grantees.

The result of this process is the proposed modifications to the existing data collection tool. ACL is aware that different grantees have different data collection capabilities. It is understood that, following the approval of the modified data collection tool, ACL will work with its grantees to offer regular training to ensure minimal burden.

The proposed data collection tools may be found on the ACL website for review at https://nadrc.acl.gov/node/226.

Estimated Program Burden: ACL estimates the burden associated with this collection of information as follows:

Respondent/data collection activity | Number of respondents | Responses per respondent | Hours per response | Annual burden hours
Local Program Site | 180 | 2 | 3.03 | 1,090.8
Grantee | 90 | 2 | 6.93 | 1,247.4
Total |  |  |  | 2,338.2

Dated: July 8, 2020.
Mary Lazare,
Principal Deputy Administrator.

[FR Doc. 2020-15279 Filed 7-15-20; 8:45 am]

BILLING CODE 4154-01-P